DEPARTMENT OF ENERGY

Federal Energy Regulatory Commission

[Project No. 4428-011]

Walden Hydro, LLC; Notice of Intent To Prepare an Environmental Assessment

On May 29, 2020, Enel Green Power North America, Inc.¹ filed an application on behalf of Walden Hydro, LLC (Walden Hydro), for a new license for the 2.1-megawatt Walden Hydroelectric Project (Walden Project) (FERC No. 4428). The Walden Project is located on the Wallkill River in Orange County in the Village of Walden, New York. The Project is located approximately 28.5 river miles upstream of the mouth of the Wallkill River. The project does not occupy federal land.

¹ In a February 3, 2021 filing, the Commission was notified that Enel Green Power North America, Inc. transferred all its ownership interests for Walden Hydro, LLC to Hydroland, Inc.

In accordance with the Commission's regulations, on February 10, 2021, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Walden Project.

The EA will be issued and circulated for review by all interested parties. All comments filed on the EA will be analyzed by staff and considered in the Commission's final licensing decision.

The application will be processed according to the following schedule. Revisions to the schedule may be made as appropriate.

Milestone | Target date
Commission issues EA August 2021 ²
Comments on EA | September 2021.

Any questions regarding this notice may be directed to Samantha Pollak at (202) 502-6419 or samantha.pollak@ferc.gov.

² The Council on Environmental Quality's (CEQ) regulations under 40 CFR 1501.10(b)(1) require that EAs be completed within 1 year of the federal action agency's decision to prepare an EA. This notice establishes the Commission's intent to prepare an EA for the Walden Project. Therefore, in accordance with CEQ's regulations, the EA must be issued within 1 year of the issuance date of this notice.

Dated: April 22, 2021.
Kimberly D. Bose,
Secretary.

[FR Doc. 2021-08829 Filed 4-27-21; 8:45 am]

BILLING CODE 6717-01-P